DEPARTMENT OF COMMERCE

International Trade Administration

North American Free-Trade Agreement, Article 1904; NAFTA Panel Reviews; Completion of Panel Review

AGENCY: NAFTA Secretariat, United States Section, International Trade Administration, Department of Commerce.

ACTION: Notice of Completion of Panel Review of the final injury determination made by the U.S. International Trade Commission, in the matter of Magnesium from Canada, Secretariat File No. USA-CDA-00-1904-09.

SUMMARY: Pursuant to the Order of the Binational Panel dated October 6, 2006, affirming the final remand determination described above, the panel review was completed on November 17, 2006.

FOR FURTHER INFORMATION CONTACT: Caratina L. Alston, United States Secretary, NAFTA Secretariat, Suite 2061, 14th and Constitution Avenue, Washington, DC 20230, (202) 482-5438.

SUPPLEMENTARY INFORMATION: On October 6, 2006, the Binational Panel issued an order which affirmed the final determination of the United States International Trade Commission (ITC) concerning Magnesium from Canada Injury Determination. The Secretariat was instructed to issue a Notice of Completion of Panel Review on the 31st day following the issuance of the Notice of Final Panel Action, if no request for an Extraordinary Challenge was filed. No such request was filed. Therefore, on the basis of the Panel Order and Rule 80 of the Article 1904 Panel Rules, the Panel Review was completed and the panelists discharged from their duties effective November 17, 2006.

Dated: December 14, 2006.
Caratina L. Alston,
United States Secretary, NAFTA Secretariat.

[FR Doc. E6-21620 Filed 12-18-06; 8:45 am]

BILLING CODE 3510-GT-P